DEPARTMENT OF TRANSPORTATION

Maritime Administration

[USCG-2006-24644]

TORP Terminal LP, Bienville Offshore Energy Terminal Liquefied Natural Gas Deepwater Port License Application; Final Amended Application Public Hearing and Final Supplemental Environmental Impact Statement

AGENCY: Maritime Administration, DOT.

ACTION: Notice of availability; notice of public meeting; request for comments.

SUMMARY: The Maritime Administration, in cooperation with the U.S. Coast Guard, announces the availability of the Final Supplemental Environmental Impact Statement (FSEIS) for the TORP Terminal LP, Bienville Offshore Energy Terminal (BOET) Liquefied Natural Gas (LNG) Deepwater Port amended license application. The amended application describes an LNG deepwater port project that would be located in the Gulf of Mexico, in Main Pass block MP 258, approximately 63 miles south of Mobile Point, Alabama. The Maritime Administration and U.S. Coast Guard will hold a public meeting, and request public comments on matters relevant to the approval or denial of the amended license application. Publication of this notice begins a 30-day comment period and provides information on how to participate in the process.

DATES: The public meeting will be held in Mobile, Alabama on March 31, 2010, from 6 p.m. to 8 p.m., and will be preceded by an open house from 5 p.m. to 6 p.m. The public meeting may end later than the stated time, depending on the number of persons wishing to speak. Material submitted in response to the request for comments must reach the Docket Management Facility by April 30, 2010.

ADDRESSES: The open house and public meeting will be held at the Mobile Convention Center, One South Water Street, Mobile, Alabama 36602; telephone: 251-208-2100.

The Draft and Final Supplemental EIS, the amended application, comments and associated documentation are available for viewing at the Federal Docket Management System (FDMS) Web site: http://www.regulations.gov under docket number USCG-2006-24644.

Docket submissions for USCG-2006-24644 should be addressed to: Department of Transportation, Docket Management Facility, West Building, Ground Floor, Room W12-140, 1200 New Jersey Avenue, SE., Washington, DC 20590-0001.

The Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://www.regulations.gov.

FOR FURTHER INFORMATION CONTACT: Mr. Patrick Marchman, Maritime Administration, telephone: 202-366-8805, e-mail: Patrick.Marchman@dot.gov; or LT Hannah Kawamoto, U.S. Coast Guard, telephone: 202-372-1437, e-mail: Hannah.K.Kawamoto@uscg.mil. If you have questions on viewing the docket, call Renee V. Wright, Program Manager, Docket Operations, telephone 202-493-0402.

SUPPLEMENTARY INFORMATION:

Public Meeting and Open House

We invite you to learn about the proposed deepwater port at an informational open house, and to comment at a public meeting on the proposed action and the evaluation contained in the FSEIS, and on matters relevant to the approval or denial of the license application. In order to allow everyone a chance to speak at the public meeting, we may limit speaker time, or extend the meeting hours, or both. Before speaking, you must identify yourself, and any organization you represent, by name. Your remarks will be recorded or transcribed for inclusion in the public docket.

You may submit written material at the public meeting, either in place of or in addition to speaking. Written material must include your name and address and will be included in the public docket.

Public docket materials will be made available to the public on the Federal Docket Management Facility (see Request for Comments).

Our public meeting location is wheelchair-accessible. If you plan to attend the open house or public meeting and need special assistance such as sign language interpretation or other reasonable accommodation, please notify the Maritime Administration (see FOR FURTHER INFORMATION CONTACT) at least three (3) business days in advance. Include your contact information as well as information about your specific needs.

Request for Comments

We request public comments or other relevant information on the FSEIS and on matters relevant to the approval or denial of the license application. The public meeting is not the only opportunity you have to comment. In addition to or in place of attending this meeting, you can submit comments to the Docket Management Facility during the public comment period (see DATES). We will consider all comments and material received during the comment period.

Submissions should include:

• Docket number USCG-2006-24644.

• Your name and address.

Submit comments or material using only one of the following methods:

• Electronic submission to FDMS, http://www.regulations.gov.

• Fax, mail, or hand delivery to the Docket Management Facility (see ADDRESSES). Faxed or hand delivered submissions must be unbound, no larger than 8½ by 11 inches, and suitable for copying and electronic scanning. If you mail your submission and want to know when it reaches the Facility, please include a stamped, self-addressed postcard or envelope.

Regardless of the method used for submitting comments or material, all submissions will be posted, without change, to the FDMS Web site (http://www.regulations.gov) and will include any personal information you provide. Therefore, submitting this information makes it public. You may wish to read the Privacy and Use Notice that is available on the FDMS Web site and the Department of Transportation Privacy Act Notice that appeared in the Federal Register on April 11, 2000 (65 FR 19477) (see Privacy Act). You may view docket submissions at the Department of Transportation Docket Management Facility or electronically on the FDMS Web site (see ADDRESSES).

Background

The Notice of Intent To Prepare a Supplemental EIS for the proposed action was published in the Federal Register at 74 FR 39136, August 5, 2009 and the Draft Supplemental EIS was published in the Federal Register at 74 FR 60310, November 20, 2009. The Draft and Final Supplemental EIS, application materials and associated comments are available on the docket at http://www.regulations.gov under docket number USCG-2006-24644. Information from the “Summary of the Application” from previous Federal Register notices is included below for your convenience.

Proposed Action and Alternatives

The proposed action requiring environmental review is the Federal licensing of the proposed deepwater port described in the “Summary of the Application” below. The alternatives to approving and licensing the proposed port are: (1) Approving and licensing with conditions (including conditions designed to mitigate environmental impact), or (2) denying the application, which for purposes of environmental review is the “no-action” alternative. These alternatives are more fully discussed in the FSEIS. The Maritime Administration and the U.S. Coast Guard are the lead Federal agencies for the preparation of the Supplemental EIS. You may address any questions about the proposed action or the FSEIS to the Maritime Administration project manager or the U.S. Coast Guard project manager, both are identified in FOR FURTHER INFORMATION CONTACT.

Summary of the Application

TORP Terminal LP proposes to own, construct, and operate a deepwater port, the Bienville Offshore Energy Terminal (BOET), in the Federal waters of the Outer Continental Shelf on Main Pass block MP 258, located approximately 63 miles south of Mobile Point, Alabama, in a water depth of approximately 425 feet. The proposed BOET deepwater port would be capable of mooring a single LNG carrier (LNGC) of up to approximately 265,000 cubic meters (m3) (8.8 million cubic feet [ft3]) in capacity.

The LNGC would be off-loaded using a HiLoad LNG off-loading and regasification unit (HiLoad), which is proprietary technology consisting of a remotely operated floating LNG transfer and regasification unit that connects to the hull of the LNGC. The HiLoad unit would regasify the LNG and deliver the gas via flexible gas pipes to the floating regasification unit (FRU) located approximately 300 meters (984 ft) from the HiLoad unit. Ambient air vaporizers (AAVs) with methanol as an intermediate fluid (IF) would be located aboard the FRU and would provide the heat required to regasify the LNG as part of a closed-loop vaporization system design.

At the FRU, the gas would be metered and sent out via interconnect pipelines to four existing offshore pipelines (Dauphin Natural Gas Pipeline, Williams Natural Gas Pipeline, Destin Natural Gas Pipeline, and Viosca Knoll Gathering System [VKGS] Gas Pipeline) that connect to the onshore natural gas transmission pipeline system. Natural gas would be delivered to customers through existing facilities. BOET would have an average throughput capacity of 1.2 billion standard cubic feet of gas per day (Bscfd) (33.9 million cubic meters of gas per day [m3/day]).

BOET's major components would include a turret mooring system (TMS), a FRU, a HiLoad unit, two mooring lines that connect the HiLoad to the FRU, two high pressure (HP) flexible gas pipes, two floating IF hoses, two umbilicals, and 22.7 mi (36. km) of new subsea pipelines.

No new onshore pipelines or LNG storage facilities are proposed as part of the construction and operation of BOET. A shore-based facility will be used to facilitate movement of personnel, equipment, supplies, and disposable materials between the terminal and shore.

BOET will require permits from the U.S. Environmental Protection Agency pursuant to the provisions of the Clean Air Act, as amended, and the Clean Water Act, as amended.

Should a license be issued, construction of the deepwater port would be expected to take thirty (30) months, with startup of commercial operations anticipated for 2014. The deepwater port, if licensed, would be designed, constructed, and operated in accordance with applicable codes and standards and would have an expected operating life of approximately 25 years.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

Authority: 49 CFR 1.66.

Dated: March 15, 2010.
By Order of the Maritime Administrator.
Christine Gurland,
Secretary, Maritime Administration.

[FR Doc. 2010-6125 Filed 3-19-10; 8:45 am]

BILLING CODE 4910-81-P